DEPARTMENT OF ENERGY

Federal Energy Regulatory Commission

Combined Notice of Filings #1

December 15, 2010.

Take notice that the Commission received the following exempt wholesale generator filings:

Docket Numbers: EG11-34-000.

Applicants: Hatchet Ridge Wind 2010-B.

Description: Notice of self certification of exempt wholesale generator status re Hatchet Ridge Wind 2010-B.

Filed Date: 12/14/2010.

Accession Number: 20101214-0204.

Comment Date: 5 p.m. Eastern Time on Tuesday, January 04, 2011.

Docket Numbers: EG11-35-000.

Applicants: Hatchet Ridge Wind 2010-B, Hatchet Ridge Wind 2010-A.

Description: Notice of self certification of exempt wholesale generator status re Hatchet Ridge Wind 2010-A.

Filed Date: 12/14/2010.

Accession Number: 20101214-0203.

Comment Date: 5 p.m. Eastern Time on Tuesday, January 04, 2011.

Take notice that the Commission received the following electric rate filings:

Docket Numbers: ER10-1533-001.

Applicants: Macquarie Energy LLC.

Description: Macquarie Energy LLC Notice of Non-Material Change in Status and Letters of Concurrence.

Filed Date: 12/14/2010.

Accession Number: 20101214-5189.

Comment Date: 5 p.m. Eastern Time on Tuesday, January 04, 2011.

Docket Numbers: ER10-3031-001.

Applicants: Streator-Cayuga Ridge Wind Power LLC.

Description: Streator-Cayuga Ridge Wind Power LLC submits tariff filing per 35: Compliance Filing to Baseline MBR Tariff to be effective 9/27/2010.

Filed Date: 12/14/2010.

Accession Number: 20101214-5153.

Comment Date: 5 p.m. Eastern Time on Tuesday, January 04, 2011.

Docket Numbers: ER10-3032-001.

Applicants: Trimont Wind I LLC.

Description: Trimont Wind I LLC submits tariff filing per 35: Compliance Filing to Baseline MBR Tariff to be effective 9/27/2010.

Filed Date: 12/14/2010.

Accession Number: 20101214-5154.

Comment Date: 5 p.m. Eastern Time on Tuesday, January 04, 2011.

Docket Numbers: ER11-2011-001.

Applicants: Harvest Windfarm, LLC.

Description: Harvest Windfarm, LLC submits tariff filing per 35: Harvest Wind LLC MBR to be effective 12/16/2010.

Filed Date: 12/15/2010.

Accession Number: 20101215-5088.

Comment Date: 5 p.m. Eastern Time on Wednesday, January 05, 2011.

Docket Numbers: ER11-2352-000.

Applicants: PJM Interconnection, L.L.C.

Description: PJM Interconnection, L.L.C. submits tariff filing per 35.13(a)(2)(iii): Original Service Agreement 2712 among PJM, Exelon and Commonwealth Edison to be effective 11/12/2010.

Filed Date: 12/13/2010.

Accession Number: 20101213-5197.

Comment Date: 5 p.m. Eastern Time on Monday, January 03, 2011.

Docket Numbers: ER11-2353-000.

Applicants: ConocoPhillips Company.

Description: ConocoPhillips Company submits tariff filing per 35.13(a)(2)(iii): Ancillary Services to be effective 1/1/2011.

Filed Date: 12/13/2010.

Accession Number: 20101213-5203.

Comment Date: 5 p.m. Eastern Time on Monday, January 03, 2011.

Docket Numbers: ER11-2354-000.

Applicants: Sustainable Star.

Description: Sustainable Star submits tariff filing per 35.13(a)(2)(iii): Market Based Initial Application to be effective 12/14/2010.

Filed Date: 12/13/2010.

Accession Number: 20101213-5215.

Comment Date: 5 p.m. Eastern Time on Monday, January 03, 2011.

Docket Numbers: ER11-2355-000.

Applicants: Accent Energy Midwest LLC.

Description: Accent Energy Midwest LLC submits a Notice of Cancellation of its Original Sheet No 1-2, First Revised FERC Electric Rate Tariff, Original Volume No 1.

Filed Date: 12/13/2010.

Accession Number: 20101214-0201.

Comment Date: 5 p.m. Eastern Time on Monday, January 03, 2011.

Docket Numbers: ER11-2356-000.

Applicants: Florida Power & Light Company.

Description: Florida Power & Light Company submits tariff filing per 35.12: FPL and Reedy Creek TSA No. 291 FINAL_12_13_2010 to be effective 1/1/2011.

Filed Date: 12/13/2010.

Accession Number: 20101213-5220.

Comment Date: 5 p.m. Eastern Time on Monday, January 03, 2011.

Docket Numbers: ER11-2357-000.

Applicants: Accent Energy Midwest LLC, Accent Energy New Jersey LLC.

Description: Accent Energy New Jersey, LLC submits a Notice of Cancellation of its Rate Schedule FERC No 1.

Filed Date: 12/13/2010.

Accession Number: 20101214-0202.

Comment Date: 5 p.m. Eastern Time on Monday, January 03, 2011.

Docket Numbers: ER11-2358-001.

Applicants: Westar Energy, Inc.

Description: Westar Energy, Inc. submits tariff filing per 35.17(b): Amendment Mid-Kansas Electric Company, LLC to be effective 8/31/2010.

Filed Date: 12/14/2010.

Accession Number: 20101214-5182.

Comment Date: 5 p.m. Eastern Time on Tuesday, January 04, 2011.

Docket Numbers: ER11-2366-000.

Applicants: Lincoln Generating Facility, LLC.

Description: Lincoln Generating Facility, LLC submits tariff filing per 35.13(a)(2)(iii): Reactive Service Rate Schedule to be effective 1/1/2011.

Filed Date: 12/14/2010.

Accession Number: 20101214-5152.

Comment Date: 5 p.m. Eastern Time on Tuesday, January 04, 2011.

Docket Numbers: ER11-2367-000.

Applicants: Safe Harbor Water Power Corporation.

Description: Safe Harbor Water Power Corporation submits tariff filing per 35.15: Cancellation of Safe Harbor MBR Under Incorrect Company ID to be effective 12/14/2010.

Filed Date: 12/14/2010.

Accession Number: 20101214-5155.

Comment Date: 5 p.m. Eastern Time on Tuesday, January 04, 2011.

Docket Numbers: ER11-2368-000.

Applicants: California Independent System Operator Corporation.

Description: California Independent System Operator Corporation submits tariff filing per 35.13(a)(2)(iii): 2010-12-14 CAISO Service Agreement 1750 Mojave Solar LGIA to be effective 1/30/2011.

Filed Date: 12/14/2010.

Accession Number: 20101214-5172.

Comment Date: 5 p.m. Eastern Time on Tuesday, January 04, 2011.

Docket Numbers: ER11-2369-000.

Applicants: California Independent System Operator Corporation.

Description: California Independent System Operator Corporation submits tariff filing per 35.13(a)(2)(iii): 2010-12-14 CAISO Service Agreement 1748 Granite Mountain Wind Farm LGIA to be effective 11/24/2010.

Filed Date: 12/14/2010.

Accession Number: 20101214-5186.

Comment Date: 5 p.m. Eastern Time on Tuesday, January 04, 2011.

Docket Numbers: ER11-2370-000.

Applicants: Cambria CoGen Company.

Description: Cambria CoGen Company submits tariff filing per 35.12: Cambria CoGen Company FERC Electric Tariff No. 1 to be effective 2/14/2011.

Filed Date: 12/15/2010.

Accession Number: 20101215-5041.

Comment Date: 5 p.m. Eastern Time on Wednesday, January 05, 2011.

Docket Numbers: ER11-2371-000.

Applicants: PJM Interconnection, L.L.C.

Description: Notice of Cancellation of PJM Interconnection, L.L.C. of Original Service Agreement No. 2143.

Filed Date: 12/15/2010.

Accession Number: 20101215-5065.

Comment Date: 5 p.m. Eastern Time on Wednesday, January 05, 2011.

Docket Numbers: ER11-2372-000.

Applicants: ISO New England Inc., New England Power Pool Participants Committee.

Description: ISO New England Inc. submits tariff filing per 35.13(a)(2)(iii: Revisions to Attachment C of Open Access Transmission Tariff to be effective 4/1/2011.

Filed Date: 12/15/2010.

Accession Number: 20101215-5076.

Comment Date: 5 p.m. Eastern Time on Wednesday, January 05, 2011.

Docket Numbers: ER11-2373-000.

Applicants: PJM Interconnection, L.L.C., PPL Electric Utilities Corporation.

Description: PJM Interconnection, L.L.C. submits tariff filing per 35.13(a)(2)(iii): PPL Electric submits Construction Agreement 2709 between PECO and PPL Electric to be effective 10/1/2010.

Filed Date: 12/15/2010.

Accession Number: 20101215-5077.

Comment Date: 5 p.m. Eastern Time on Wednesday, January 05, 2011.

Docket Numbers: ER11-2374-000.

Applicants: Southwestern Public Service Company.

Description: Southwestern Public Service Company submits tariff filing per 35.13(a)(2)(iii): 12-15-10 RS138 SPS-LPL to be effective 2/14/2011.

Filed Date: 12/15/2010.

Accession Number: 20101215-5087.

Comment Date: 5 p.m. Eastern Time on Wednesday, January 05, 2011.

Docket Numbers: ER11-2375-000.

Applicants: Consolidated Edison Company of New York.

Description: Consolidated Edison Company of New York, Inc. submits tariff filing per 35: Consolidated Edison Order 697 Compliance Filing to be effective 1/1/2011.

Filed Date: 12/15/2010.

Accession Number: 20101215-5091.

Comment Date: 5 p.m. Eastern Time on Wednesday, January 05, 2011.

Docket Numbers: ER11-2376-000.

Applicants: Orange and Rockland Utilities, Inc.

Description: Orange and Rockland Utilities, Inc. submits tariff filing per 35: Orange and Rockland Utilities Order 697 Compliance Filing to be effective 1/1/2011 under ER11-02376-000 Filing Type: 80.

Filed Date: 12/15/2010.

Accession Number: 20101215-5122.

Comment Date: 5 p.m. Eastern Time on Wednesday, January 05, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-32063 Filed 12-21-10; 8:45 am]

BILLING CODE 6717-01-P